DEPARTMENT OF HOMELAND SECURITY

Federal Emergency Management Agency

[Docket ID: FEMA-2010-0016]

Agency Information Collection Activities: Submission for OMB Review; Comment Request, OMB No. 1660-0005; National Flood Insurance Program—Claim Forms

AGENCY: Federal Emergency Management Agency, DHS.

ACTION: Notice; 30-day notice and request for comments; revision of a currently approved information collection; OMB No. 1660-0005; FEMA Form 086-0-6 (formerly 81-40) National Flood Insurance Program Worksheet-Contents-Personal Property; 086-0-7 (formerly 81-41) Worksheet—Building; 086-0-8 (formerly 81-41A) Worksheet—Building (Continued); 086-0-9 (formerly 81-42) Proof of Loss; 086-0-10 (formerly 81-42A) Increased Cost of Compliance Proof of Loss; 086-0-11 (formerly 81-43) Notice of Loss; 086-0-12 (formerly 81-44) Statement as to Full Cost of Repair or Replacement under the Replacement Cost Coverage, Subject to the Terms and Conditions of this Policy; 086-0-13 (formerly 81-57) National Flood Insurance Program Preliminary Report; 086-0-14 (formerly 81-58) National Flood Insurance Program Final Report; 086-0-15 (formerly 81-59) National Flood Insurance Program Narrative Report; 086-0-16 (formerly 81-63) Cause of Loss and Subrogation Report; 086-0-17 (formerly 81-96) Manufactured (Mobile) Home/Travel Trailer Worksheet; 086-0-18 (formerly 81-96A) Manufactured (Mobile) Home/Travel Trailer Worksheet (Continued); 086-0-19 (formerly 81-98) Increased Cost of Compliance (ICC) Adjuster Report; 086-0-20 (formerly 81-109) Adjuster Preliminary Damage Assessment; 086-0-21 (formerly 81-110) Adjuster Certification Application.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 26, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: National Flood Insurance Program—Claim Forms.

Type of Information Collection: Revision of a currently approved information collection.

OMB Number: 1660-0005.

Form Titles and Numbers: FEMA Form 086-0-6 (formerly 81-40) National Flood Insurance Program Worksheet-Contents-Personal Property; 086-0-7 (formerly 81-41) Worksheet—Building; 086-0-8 (formerly 81-41A) Worksheet—Building (Continued); 086-0-9 (formerly 81-42) Proof of Loss; 086-0-10 (formerly 81-42A) Increased Cost of Compliance Proof of Loss; 086-0-11 (formerly 81-43) Notice of Loss; 086-0-12 (formerly 81-44) Statement as to Full Cost of Repair or Replacement under the Replacement Cost Coverage, Subject to the Terms and Conditions of this Policy; 086-0-13 (formerly 81-57) National Flood Insurance Program Preliminary Report; 086-0-14 (formerly 81-58) National Flood Insurance Program Final Report; 086-0-15 (formerly 81-59) National Flood Insurance Program Narrative Report; 086-0-16 (formerly 81-63) Cause of Loss and Subrogation Report; 086-0-17 (formerly 81-96) Manufactured (Mobile) Home/Travel Trailer Worksheet; 086-0-18 (formerly 81-96A) Manufactured (Mobile) Home/Travel Trailer Worksheet (Continued); 086-0-19 (formerly 81-98) Increased Cost of Compliance (ICC) Adjuster Report; 086-0-20 (formerly 81-109) Adjuster Preliminary Damage Assessment; 086-0-21 (formerly 81-110) Adjuster Certification Application.

Abstract: The claims forms used for the National Flood Insurance Program are used by policyholders and adjusters to collect the information needed to investigate, document, evaluate, and settle claims against National Flood Insurance Program policies for flood damage to their insured property or qualification for benefits under Increased Cost of Compliance coverage.

Affected Public: Individuals or households; Business or other for-profit; Not for-profit institutions; farms; Federal Government; State, local or Tribal government.

Estimated Number of Respondents: 3,640.

Frequency of Response: On Occasion.

Estimated Average Hour Burden per Respondent: 5.73 Hours.

Estimated Total Annual Burden Hours: 20,841.6 Hours.

Estimated Cost: There are no operation and maintenance, or capital and start-up costs associated with this the collection of information.

Dated: July 16, 2010.
Tammi Hines,
Acting Director, Records Management Division, Mission Support Bureau, Federal Emergency Management Agency, Department of Homeland Security.

[FR Doc. 2010-18324 Filed 7-26-10; 8:45 am]

BILLING CODE 9110-11-P